DEPARTMENT OF AGRICULTURE

Agricultural Research Service

Notice of Intent To Seek OMB Approval To Collect Information: Forms Pertaining to the Scientific Peer Review of ARS Research Projects

AGENCY: Agricultural Research Service (ARS), USDA.

ACTION: Notice and request for comments.

SUMMARY: The proposed information collection requirement described below will be submitted to the Office of Management and Budget (OMB) for review, as required by the Paperwork Reduction Act of 1995 and OMB implementing regulations. The Department is soliciting public comments on the subject proposal.

DATES: Written comments on this notice should be submitted on or before June 6, 2022.

ADDRESS: All comments concerning this notice should be directed to the Director & Program Coordinator listed under FOR FURTHER INFORMATION CONTACT.

FOR FURTHER INFORMATION CONTACT: Dr. Marquea D. King, Director & Program Coordinator, Office of Scientific Quality Review (OSQR); ARS, USDA; 5601 Sunnyside Avenue, Beltsville, Maryland; 20705; Phone: 301-504-3283; Fax: 301-504-1251; email: marquea.king@usda.gov.

SUPPLEMENTARY INFORMATION: The OSQR will seek approval from OMB to update six existing forms that will ensure the ARS efficiently manages data associated with the peer review of agricultural research. All forms are transferred and received electronically and may include on-line submission in the future.

Abstract: The OSQR was established in September of 1999 as a result of the Agricultural Research, Extension, and Education Reform Act 1998 (“The Act”) (Pub. L. 105-185). The Act included mandates to perform scientific peer reviews of all research activities conducted by the USDA. The Office manages the ARS peer review system by centrally coordinating all of the intramural peer review functions for ARS research projects on a 5-year cycle.

Each set of reviews is assigned a chairperson to govern the panel review process. Peer reviewers are external to the Agency and non-ARS scientists. Peer review panels are convened to assess the technical/scientific quality and correctness of each research project plan. Each panel reviewer receives information on a range of 2-5 ARS research projects.

On average, 150 research projects are reviewed annually by an estimated 185 reviewers; whereby approximately 130 are reviewed by panel and approximately 20 are reviewed through an ad hoc (written review) process. The management and execution of this peer review process is vastly dependent on the use of these forms.

The OSQR will seek OMB approval of the following forms:

1. Confidentiality Agreement Form—USDA uses this form to document that a selected reviewer is responsible for keeping confidential any information learned during the subject peer review process. The Confidentiality Agreement is signed prior to the reviewer's involvement in the peer review process. This form requires an original signature and can be submitted electronically.

2. Panelist Information Form—USDA uses this form to gather the most recent background information, diversity and inclusion data about the reviewer as well as information relevant to the paying of an honorarium and for travel, when needed. Sensitive information is transmitted on this form and destroyed after payment is received.

3. Peer Review of an ARS Research Project Form (Peer Review Form)—USDA uses this form to guide the reviewer's expert comments in written form on the assigned project plan. The form contains the criteria for plan review and seeks the reviewer's narrative comments and evaluation.

4. Additional Reviewer Comment Form—This form is supplied to members of a panel not assigned as a primary nor secondary reviewer on a particular project plan, however it encourages additional expert comments or recommendations for any plan regardless of the reviewers' assignment as primary or secondary.

5. Ad Hoc Review Form—USDA uses this in select cases (for Reviewers not participating in a panel review), a check-off listing of action classes at the end of the form allows them to provide an overall rating of the plan.

6. Recommendations for ARS Research Project Form—USDA uses this form to guide the panel's evaluation and critique of the review process. The form combines both primary and secondary reviewers' recommendations of the research project plan.

7. Panel Expense Report Form (Expense Report)—USDA uses this form to document a panel reviewer's expense incurred traveling to and attending a peer review meeting. The Expense Report includes lodging, meals, and transportation expenses. When completed, the form contains sensitive information and is held in compliance with the ARS travel guidelines. This form is used only in the rare circumstance that a panel meeting requires travel of the participants.

USDA's collection of information on the Confidentiality Agreement Form is needed to document that a selected reviewer is responsible for keeping confidential any information learned during the subject peer review process. The Confidentiality Agreement would be signed prior to the reviewer's involvement in the peer review process.

USDA's collection of information on the Panelist Information Form is needed to collect the most recent background information along with diversity and inclusion data about the reviewer. It contains sensitive information.

USDA's collection of information on the Peer Review Form and Reviewer Comment Form is needed to guide the reviewer's comments on the subject project. Both contain review guidance and space to insert comments.

USDA's collection of information on the Ad Hoc Review Form is needed to guide reviewer comments of those not participating in a chaired panel and affords a place to select an overall Action Class rating for the plan.

USDA's collection of information on the Recommendations Form is needed to guide the panel's critique of the review process. It contains the recommendations of the panel for the subject research project.

USDA's collection of information on the Expense Report Form is needed to document a panel reviewer's expenses incurred by attending a peer review meeting. The Expense Report includes lodging, meals, and transportation expenses. It includes sensitive information.

Estimate of Burden: The burden associated with this approval process is the minimum required to successfully achieve program objectives. The information collection frequency is the minimum consistent with program objectives. The following estimates of time required to complete the forms, based on previous OSQR's experience with our current business model.

1. Confidentiality Agreement Form: (10 minutes completion time). The reviewer must read and consider the terms of the agreement and then sign and date the form.

2. Panelist Information Form: (30 minutes completion time). The reviewer provides standard personal and diversity information, similar to that found in grant review programs.

3. Panelist Peer Review of an ARS Research Project Form: (4-7 hours completion time). As the review page length varies. Reviewers freely write as much as they wish and complete the form. To adequately evaluate a research project plan that may exceed 60-70 pages in length, each reviewer must thoroughly read each plan.

4. Reviewer Comment Form: (60 minutes completion time). General assessment of the plan with brief comments on the approach and feasibility of the project and about one page.

5. Panel Recommendation for ARS Research Project Form: (30-60 minutes completion time). The page length significantly varies among Panelist Peer Reviews and Reviewer Comments. All recommendation forms are completed by the OSQR and further discussed and revised by the reviewers as part of their panel discussions. In-person panels are handled in the same manner.

6. Panel Expense Report Form: (30 minutes completion time).

Respondents and Estimated Number of Respondents: Selected scientific experts, currently working in the same discipline as the research projects being peer reviewed. These external experts are credible peers to the ARS. Annually, about 185 peer reviewers complete these forms. Most plans are discussed and deliberated via webinar and telephone conferencing. Travel is not generally necessary thus reviewers are not expected to complete Panel Expense Reports.

Frequency of Response:

Form | Number of respondents | Annual frequency
Confidentiality Agreement | 185 | 1 per respondent (Total = 185).
Peer Review Forms (required and assigned 2 plans) | 200 | 2 per panel respondent (Total = 400).
Reviewer Comment Form (reviewer is not assigned as primary or secondary review) | 6 | 2 per panel respondent (Total = 12).
Expense Report (in-person reviewers) | 6 | 1 per respondent (Total = 6).
Panelist Information Forms | 185 | 1 per respondent/per form (Total = 185).
Recommendations Form (non-online project reviews) | 82 | 2 per respondent (Total = 164).

Estimated Total Annual Burden on Respondents:

Form (time required to complete) | Number completed annually | Total burden (hours)
Confidentiality Agreement (10 minutes) | 185 | 31
Panelist Information Forms (30 minutes) | 185 | 93
Peer Review Forms (~6 hours) | 200 | 1,200
Recommendations Form (2 hour) | 82 | 164
Reviewer Comment Form (1 hour) | 6 | 6
Expense Report (30 minutes) | 6 | 3

Authority: The Paperwork Reduction Act of 1995, 44 U.S.C. chap. 35.

Comments: The Notice is soliciting comments from members of the public and impacted agencies concerning the proposed collection of information to: (1) Evaluate whether the proposed collection is necessary for the proper performance of ARS functions, including whether the information will have practical utility; (2) Evaluate the accuracy of the estimated burden from proposed collection of information; (3) Enhance the quality, utility, and clarity of the information to be collected; and (4) Minimize the burden of the collection of information on those who are to respond, including the use of appropriate automated collection techniques or other forms of information technology, e.g., permitting electronic submission of responses. All responses to this notice will be summarized and included in the request for OMB approval.

All comments will become a matter of public record.

Simon Y. Liu,
Associate Administrator, ARS.

[FR Doc. 2022-07407 Filed 4-6-22; 8:45 am]

BILLING CODE 3410-03-P